GENERAL SERVICES ADMINISTRATION

President's Homeland Security Advisory Council

AGENCY: Office of Governmentwide Policy, General Services Administration.

ACTION: Notice of Federal Advisory Committee Meeting.

SUMMARY: The President's Homeland Security Advisory Council (PHSAC or Council) will meet telephonically in an open session on Friday, February 21, 2003, from 9:30 a.m. to 11 a.m., EST. The PHSAC will meet to deliberate on the draft Statewide Template for Homeland Security, prepared by the State and Local Senior Advisory Committee and, pending discussion, approve a draft letter to the President regarding the template.

Objectives: The President's Homeland Security Advisory Council was established by Executive Order 13260 (67 FR 13241, March 21, 2002). The objectives of the PHSAC are to provide advice and recommendations to the President of the United States through the Assistant to the President for Homeland Security on matters relating to homeland security.

Public Participation: This meeting will take place via teleconference through the following call-in number: 1-888-285-4585. Interested members of the public may listen to this meeting. To ensure the appropriate number of lines, however, persons wishing to listen to the meeting must register with Cynthia Gismegian at (202) 456-1700 by 4 p.m., EST, on Thursday, February 20, 2003, to obtain the access code.

Public Comments: Members of the public who wish to file a written statement with the PHSAC may do so by mail to Mr. Charles Howton at the following address: President's Homeland Security Advisory Council, U.S. General Services Administration (GSA/MC, Room G-230), 1800 F St., NW., Washington, DC 20405. Comments also may be sent to Charles Howton by e-mail at charles.howton@gsa.gov, or by facsimile (FAX) to (202) 273-3559.

Dated: February 5, 2003.
James L. Dean,
Director, Committee Management Secretariat, Office of Governmentwide Policy, General Services Administration.

[FR Doc. 03-3254 Filed 2-6-03; 8:45 am]

BILLING CODE 6820-34-P